DEPARTMENT OF COMMERCE

International Trade Administration

[A-428-602]

Brass Sheet and Strip From Germany: Final Results of the Full Third Five-Year (“Sunset”) Review of the Antidumping Duty Order

AGENCY: Import Administration, International Trade Administration, Department of Commerce.

DATES: Effective Date: January 31, 2012.

SUMMARY: On March 1, 2011, the Department of Commerce (“the Department”) initiated its third sunset review of the antidumping duty order on brass sheet and strip from Germany, pursuant to section 751(c) of the Tariff Act of 1930, as amended (“the Act”). Based on adequate substantive responses filed on behalf of both the domestic interested parties and the respondent interested parties, the Department determined to conduct a full sunset review of this antidumping order pursuant to 751(c) of the Act and 19 CFR 351.218(e)(2)(i). As a result of our analysis, the Department finds that revocation of the antidumping duty order on brass sheet and strip from Germany would likely lead to continuation or recurrence of dumping.

FOR FURTHER INFORMATION CONTACT: Mahnaz Khan or Yasmin Nair, AD/CVD Operations, Office 1, Import Administration, International Trade Administration, U.S. Department of Commerce, 14th Street and Constitution Avenue NW., Washington, DC 20230; telephone (202) 482-0914 and (202) 482-3813, respectively.

SUPPLEMENTARY INFORMATION:

Background

On March 1, 2011, the Department initiated the third sunset review of the antidumping duty order on brass sheet and strip from Germany, pursuant to section 751(c) of the Act. See Initiation of Five-Year (“Sunset”) Review, 76 FR 11202 (March 1, 2011). The Department received a notice of intent to participate from domestic interested parties, GBC Metals, LLC, of Global Brass and Copper, Inc., doing business as Olin Brass; Heyco Metals, Inc.; Luvata North America, Inc.; PMX Industries, Inc.; Revere Copper Products, Inc.; and International Association of Machinists and Aerospace Workers, United Auto Workers (Local 2367 and Local 1024), and United Steelworkers AFL-CIO CLC (collectively, “Petitioners”), within the deadline specified in 19 CFR 351.218(d)(1)(i).

On March 31, 2011, the Department received a substantive response from Petitioners, and a substantive response from respondent interested parties in Germany, Wieland-Werke AG, Schwermetall Halbzeugwerk GmbH & Co. KG, and Messingwerk Plettenberg Herfeld & Co., KG (collectively, “Respondents”) within the deadline specified in 19 CFR 351.218(d)(3)(i). Based on the finding that the substantive responses were adequate, we determined to conduct a full sunset review of this antidumping duty order. See Memorandum from Susan H. Kuhbach, Director, AD/CVD Operations, Office 1, to Edward C. Yang, Acting Deputy Assistant Secretary for AD/CVD Operations entitled “Adequacy Determination: Third Five-Year (“Sunset”) Review of the Antidumping Duty Order on Brass Sheet and Strip from Germany,” dated June 7, 2011.

On September 26, 2011, the Department published in the Federal Register the preliminary results of this full third sunset review of the AD order on brass sheet and strip from Germany. See Brass Sheet and Strip from Germany: Preliminary Results of the Third Five-Year (“Sunset”) Review of the Antidumping Duty Order, 76 FR 59386 (September 26, 2011) and accompanying Issues and Decision Memorandum.

The Department invited interested parties to comment on the Preliminary Results. On November 15, 2011, we received case briefs from Petitioners and Respondents. On November 21, 2011, we received rebuttal briefs from Petitioners and Respondents. No hearing was held because none was requested.

Scope of the Order

The product covered by the order is brass sheet and strip, other than leaded and tinned brass sheet and strip. The chemical composition of the covered product is currently defined in the Copper Development Association (“C.D.A.”) 200 Series or the Unified Numbering System (“U.N.S.”) C2000. The order does not cover products the chemical compositions of which are defined by other C.D.A. or U.N.S. series. In physical dimensions, the product covered by the order has a solid rectangular cross section over 0.006 inches (0.15 millimeters) through 0.188 inches (4.8 millimeters) in finished thickness or gauge, regardless of width. Coiled, wound-on-reels (traverse wound), and cut-to-length products are included. The merchandise is currently classified under Harmonized Tariff Schedule of the United States (“HTSUS”) item numbers 7409.21.00 and 7409.29.00.

Although the HTSUS item numbers are provided for convenience and customs purposes, the written description of the scope of the order remains dispositive.

Analysis of Comments Received

All issues raised in this sunset review are addressed in the “Issues and Decision Memorandum for the Sunset Review of the Antidumping Duty Order on Brass Sheet and Strip from Germany; Final Results” from Gary Taverman, Acting Deputy Assistant Secretary for Antidumping and Countervailing Duty Operations, to Paul Piquado, Assistant Secretary for Import Administration (“Decision Memorandum'”), which is hereby adopted by, and issued concurrently with, this notice. The issues discussed in the Decision Memorandum are the likelihood of continuation or recurrence of dumping and the magnitude of the margins likely to prevail if the order is revoked. Parties can find a complete discussion of all issues raised in this review and the corresponding recommendations in this public memorandum which is on file in the Central Records Unit, room 7046 of the main Department building. In addition, a complete version of the Decision Memorandum can be accessed directly on the Web at http://ia.ita.doc.gov/frn. The paper copy and electronic version of the Decision Memorandum are identical in content.

Final Results of Review

We determine that revocation of the antidumping duty order on brass sheet and strip from Germany would be likely to lead to continuation or recurrence of dumping at the following weighted-average percentage margins:

Manufacturers/producers/exporters | Margin (percent)
Wieland-Werke AG | 3.81
All Others | 7.30

Notification to Interested Parties

This notice also serves as the only reminder to parties subject to an administrative protective order (APO) of their responsibility concerning the return or destruction of proprietary information disclosed under APO in accordance with 19 CFR 351.305. Timely notification of the return or destruction of APO materials or conversion to judicial protective order is hereby requested. Failure to comply with the regulations and terms of an APO is a violation which is subject to sanction.

We are issuing and publishing the final results of this review in accordance with sections 751(c), 752, and 777(i) of the Act.

Dated: January 25, 2012.
Paul Piquado,
Assistant Secretary for Import Administration.

[FR Doc. 2012-2082 Filed 1-30-12; 8:45 am]

BILLING CODE 3510-DS-P